DEPARTMENT OF HEALTH AND HUMAN SERVICES

Administration for Children and Families

[CFDA Number: 93.568]

Proposed Reallotment of Fiscal Year 2022 Funds for the Low Income Home Energy Assistance Program

AGENCY: Office of Community Services, Administration for Children and Families, Department of Health and Human Services.

ACTION: Notice of public comment.

SUMMARY: The Administration for Children and Families (ACF), Office of Community Service (OCS), Division of Energy Assistance announces a preliminary determination that funds from the Federal fiscal year (FFY) 2022 Low Income Home Energy Assistance Program (LIHEAP) are available for reallotment to States, Territories, Tribes, and Tribal organizations that received FFY 2023 direct LIHEAP grants. The purpose of this award is to redistribute FFY 2022 annual LIHEAP funds that grant recipients were unable to obligate or carry over to FFY 2023. No sub-recipients of these grant recipients or other entities may apply for these funds.

DATES: Comments are due by: October 26, 2023.

ADDRESSES: Comments may be submitted to: Peter Edelman, Program Analyst, Office of Community Services, Administration for Children and Families, 330 C Street SW, 5th Floor; Mail Room 5425; Washington, DC 20201 or via email: peter.edelman@acf.hhs.gov. Comments may also be faxed to 202-401-5661.

FOR FURTHER INFORMATION CONTACT: Akm Rahman, Program Operations Branch Chief, Division of Energy Assistance, Office of Community Services, 330 C Street SW, 5th Floor; Mail Room 5425; Washington, DC, 20201. Telephone: 202-401-5306; email: Akm.Rahman@acf.hhs.gov.

SUPPLEMENTARY INFORMATION: After receiving Federal Financial Reports (FFRs) and Carryover and Reallotment Reports (CRRs) from FFY 2022 LIHEAP recipients, ACF has determined that $21,985,238 in FFY 2022 LIHEAP funds were available for reallotment for FFY 2023. This determination was based on the reports of 73 recipients, the total obligations of 3 recipients, and minor corrections to certain amounts available for carryover. LIHEAP recipients submitted the FFY 2022 CRRs to OCS, as required by regulations applicable to LIHEAP at 45 CFR 96.81(b).

The LIHEAP statute allows grant recipients who have funds unobligated at the end of the FFY for which they are awarded to request that they be allowed to carry over up to 10 percent of their full-year allotments to the next FFY (42 U.S.C. 8626(b)(2)). Funds in excess of this amount must be returned to the U.S. Department of Health and Human Services and are subject to reallotment under 42 U.S.C. 8626(b)(1).

FFY 2022 funds appropriated under the American Rescue Plan Act of 2022 (Pub. L. 117-2) were not subject to 42 U.S.C. 8626(b)(2)(B), which caps carryover at 10 percent. Therefore, these funds were not included in the reallotment calculation.

In accordance with 42 U.S.C. 8626(b)(3), ACF notified each of the 76 recipients that reported or, in the absence of reporting, had potentially $21,985,238 of unobligated funds above their carryover caps. In these notices, ACF told each about the amount it returned for de-obligation and the amount that will be redistributed to FFY 2023 grant recipients as part of the reallotment. It also gave each recipient 30 calendar days to provide comments directly to ACF.

If funds are reallotted, then they will be allocated in accordance with 42 U.S.C. 8623 and must be treated by LIHEAP grant recipients that receive them as an amount appropriated for FFY 2023. As FFY 2023 funds, they will be subject to all requirements of the LIHEAP statute, including 42 U.S.C. 8626(b)(2), which requires that a grantee obligate at least 90 percent of its total block grant allocation for a fiscal year by the end of the fiscal year for which the funds are appropriated; that is, by September 30, 2023.

All LIHEAP grant recipients that receive a portion of these funds will be notified of the final reallotment amount redistributed to them for obligation in FFY 2023. This decision will also be published in the Federal Register and in a Dear Colleague Letter that is posted to ACF's website under LIHEAP Dear Colleague Letters.

The FFY 2022 LIHEAP funds that ACF preliminarily expects to become available for reallotment determination come from the following grant recipients in the following amounts:

Name of grant recipient that has funds to be returned for reallotment | Preliminary amount available for reallotment ¹
Alabama | $2,378,088
Alaska | 2,431,911
American Samoa | 2,828
Delaware | 199,360
Idaho | 6,505,338
Michigan | 2,087,677
Wyoming | 81,133
Absentee Shawnee Tribe of Indians of Oklahoma | 20,409
Berry Creek Rancheria | 747
Big Valley Band of Pomo Indians | 1,759
Bishop Paiute Tribe | 13,779
Blackfeet Tribe | 264,815
Catawba Indian Nation | 10,164
Cherokee Nation | 134,641
Cheyenne and Arapaho Tribes | 18,097
Cocopah Indian Tribe | 11,011
Colorado River Indian Tribes | 6,166
Comanche Nation | 26,315
Confederated Salish and Kootenai Tribes | 212,244
Confederated Tribes and Bands of the Yakama Nation | 551,163
Confederated Tribes of Siletz Indians of Oregon | 79,365
Confederated Tribes of the Colville Indian Reservation | 12,018
Confederated Tribes of the Grand Ronde Community of Oregon | 28,859
Confederated Tribes of Warm Springs | 11,141
Delaware Nation | 275
Eastern Band of Cherokee Indians | 6,466
Eastern Shoshone Tribe | 45,858
Fort Belknap Indian Community | 109,264
Fort Peck Assiniboine and Sioux Tribes | 66,553
Gila River Indian Community | 17,267
Hoh Tribe | 4,404
Hoopa Valley Tribe | 45,051
Indian Township Tribal Government | 309,325
Inter-Tribal Council of MI, Inc | 1,363
Jicarilla Apache Nation | 15,384
Kalispel Tribe of Indians | 657
Kaw Nation | 3,441
Kialegee Tribal Town | 50
Kickapoo Tribe of Oklahoma | 25,505
Kiowa Tribe of Oklahoma | 64,055
Little River Band of Ottawa Indians | 159,939
Lower Elwha Klallam Tribe | 1,928
Makah Tribe | 1,890
Modoc Nation | 2,078
Mowa Band of Choctaw Indians | 49,621
Nanticoke Lenni-Lenape Indians of New Jersey | 56,056
Narragansett Indian Tribe | 2,927
Navajo Nation | 1,153,394
Nooksack Indian Tribe | 18,243
Northern Arapaho Tribe | 12,853
Northern Cheyenne Tribe | 12,378
Oglala Sioux Tribe | 867,529
Osage Nation | 22,894
Otoe-Missouria Tribe of Indians | 3,960
Ottawa Tribe of Oklahoma | 4,457
Pawnee Nation of Oklahoma | 5,866
Penobscot Indian Nation | 6,885
Poarch Band of Creek Indians | 81,075
Pueblo of Jemez | 7,428
Pueblo of Zuni | 28,762
Quapaw Nation | 13,244
Quileute Tribe | 5,009
Quinault Indian Nation | 3,026
Round Valley Indian Tribes | 28,912
Sac and Fox Nation of Oklahoma | 2,123
Seldovia Village Tribe | 11,278
Seneca—Cayuga Nation | 8,961
Seneca Nation of Indians | 20,244
South Puget Intertribal Planning Agency | 739
Spirit Lake Nation | 287,077
Standing Rock Sioux Tribe | 396,242
Thlopthlocco Tribal Town | 9,446
Turtle Mountain Band of Chippewa Indians | 2,376,042
United Keetoowah Band of Cherokee Indians | 272,128
Ute Indian Tribe | 1,672
Yankton Sioux Tribe | 244,986
Total | 21,985,238
¹ Preliminary funds for reallotment consist of the funds in excess of LIHEAP's 10 percent carryover cap that (1) 73 recipients indicated on the FFRs or reported on the CRRs as unobligated; or (2) amounted to 100 percent of regular funds or IIJA funds for the 3 recipients that failed to submit the associated FFRs and their CRRs.

If funds are reallotted, then grant recipients may use them for any purpose authorized under LIHEAP and must add these funds to their total LIHEAP funds payable for FFY 2023 for purposes of calculating statutory caps on administrative costs, carryover, Assurance 16 activities, and weatherization assistance.

Additionally, all recipients of these funds must (1) ensure that they are included in the amounts on Lines 1.1 of their FFY 2023 CRRs; (2) reconcile these funds, to the extent that they received them, on a separate FFR; and (3) record, on their FFY 2023 Household Reports, households that receive benefits at least partly from these funds. State recipients must also ensure that these funds are included in the Grantee Survey sections of their FFY 2023 LIHEAP Performance Data Forms.

Statutory Authority: 42 U.S.C. 8626(b).

Karen D. Shields,
Senior Grants Policy Specialist, Office of Grants Policy, Office of Administration.

[FR Doc. 2023-20788 Filed 9-25-23; 8:45 am]

BILLING CODE 4184-80-P